SMALL BUSINESS ADMINISTRATION

[Disaster Declaration #17286 and #17287; KENTUCKY Disaster Number KY-00087]

Presidential Declaration Amendment of a Major Disaster for the State of Kentucky

AGENCY: Small Business Administration.

ACTION: Amendment 1.

SUMMARY: This is an amendment of the Presidential declaration of a major disaster for the State of Kentucky (FEMA-4630-DR), dated 12/12/2021.

Incident: Severe Storms, Straight-line Winds, Flooding, and Tornadoes.

Incident Period: 12/10/2021 and continuing.

DATES: Issued on 12/16/2021.

Physical Loan Application Deadline Date: 02/10/2022.

Economic Injury (EIDL) Loan Application Deadline Date: 09/12/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Kentucky, dated 12/12/2021, is hereby amended to include the following areas as adversely affected by the disaster:

Primary Counties (Physical Damage and Economic Injury Loans): Christian, Hart, Hickman, Logan, Lyon, Ohio

Contiguous Counties (Economic Injury Loans Only):

Kentucky: Breckinridge, Daviess, Grayson, Hancock, Hardin, Metcalfe

Tennessee: Montgomery, Robertson, Stewart

All other information in the original declaration remains unchanged.

(Catalog of Federal Domestic Assistance Number 59008)

Barbara Carson,
Acting Associate Administrator for Disaster Assistance.

[FR Doc. 2021-28090 Filed 12-27-21; 8:45 am]

BILLING CODE 8026-03-P